DEPARTMENT OF HOMELAND SECURITY

Submission for Review; Extension of Currently Approved Information Collection Requests for Support Anti-Terrorism by Fostering Effective Technologies Act of 2002 (SAFETY Act Application Kit and SAFETY Act Forms 003 Through 007)

AGENCY: Office of the Under Secretary for Management, Department of Homeland Security.

ACTION: Notice; 30-day notice of information collections under review: SAFETY Act Application Kit and SAFETY Forms 003 through 007.

SUMMARY: The Department of Homeland Security (DHS) has submitted the following information collection requests (ICRs) to the Office of Management and Budget (OMB) for review and clearance in accordance with the Paperwork Reduction Act of 1995: 1640-0001, 1640-0002, 1640-0003, 1640-0004, 1640-0005, 1640-0006. The information collections were previously published in the Federal Register on October 16, 2003, at 68 FR 59696, allowing for OMB review and a 60-day public comment period. Comments received by DHS are being reviewed as applicable.

The purpose of this notice is to allow an additional 30 days for public comments. Comments are encouraged and will be accepted until March 22, 2004. This process is conduced in accordance with 5 CFR 1320.10.

Written comments and/or suggestions regarding the items contained in this notice should be directed to the Office of Management and Budget, Attn: Desk Officer for Homeland Security, Office of Management and Budget Room 10235, Washington, DC 20503; telephone (202) 395-7316.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by calling Yvonne Pollard, Program Analyst Paperwork Reduction Act Contact, Office of the Chief Information Officer, Department of Homeland Security, Washington, DC 20528; telephone (202) 692-4221.

SUPPLEMENTARY INFORMATION:

Analysis

Agency: Department of Homeland Security, Under Secretary for Science and Technology.

Title: Support Anti-Terrorism by Fostering Effective Technologies Act of 2002.

OMB No.: 1640-0001.

Frequency: On occasion.

Affected Public: Business or other for profit and not-for-profit institutions.

Estimated Number of Respondents: 1,000 respondents.

Estimated Time Per Respondent: 36-180 hours per response (average = 108 hours per response).

Total Burden Hours: 108,000.

Total Burden Cost: (capital/startup): None.

Total Burden Cost: (operating/maintaining): None.

Agency: Department of Homeland Security, Under Secretary for Science and Technology.

Title: Support Anti-Terrorism by Fostering Effective Technologies Act of 2002—Application for Transfer of Designation (DHS-S&T-I-SAFETY-003).

OMB No.: 1640-0002.

Frequency: On occasion.

Affected Public: Business or other for profit, not-for-profit institutions and individuals or households.

Estimated Number of Respondents: 500.

Estimated Time Per Respondent: 15-30 minutes.

Total Burden Hours: 250.

Total Burden Cost: (capital/startup): None.

Total Burden Cost: (operating/maintaining): None.

Agency: Department of Homeland Security, Under Secretary for Science and Technology.

Title: Support Anti-Terrorism by Fostering Effective Technologies Act of 2002—Notice of License of Qualified Anti-Terrorism Technology (DHS-S&T-I SAFETY 004).

OMB No.: 1640-0003.

Frequency: On occasion.

Affected Public: Business or other for profit, not-for-profit institutions and individuals or households.

Estimated Number of Respondents: 500.

Estimated Time Per Respondent: 15-30 minutes.

Total Burden Hours: 250.

Total Burden Cost: (capital/startup): None.

Total Burden Cost: (operating/maintaining): None.

Agency: Department of Homeland Security, Under Secretary for Science and Technology.

Title: Support Anti-Terrorism by Fostering Effective Technologies Act of 2002—Notice of License of Approved Anti-Terrorism Technology (DHS-S&T-I SAFETY 005).

OMB No.: 1640-0004.

Frequency: On occasion.

Affected Public: Business or other for profit, not-for-profit institutions and individuals or households.

Estimated Number of Respondents: 500.

Estimated Time Per Respondent: 15-30 minute.

Total Burden Hours: 250.

Total Burden Cost: (capital/startup): None.

Total Burden Cost: (operating/maintaining): None.

Agency: Department of Homeland Security, Under Secretary for Science and Technology.

Title: Support Anti-Terrorism by Fostering Effective Technologies Act of 2002—Application for Modification of Designation (DHS-S&T-I SAFETY 006).

OMB No.: 1640-0005.

Frequency: On occasion.

Affected Public: Business or other for profit, not-for-profit institutions and individuals or households.

Estimated Number of Respondents: 250.

Estimated Time Per Respondent: 10-20 hours.

Total Burden Hours: 5,000.

Total Burden Cost: (capital/startup): None.

Total Burden Cost: (operating/maintaining): None.

Agency: Department of Homeland Security, Under Secretary for Science and Technology.

Title: Support Anti-Terrorism by Fostering Effective Technologies Act of 2002 “ Application for Renewal of Certification of an Approved Product for Homeland Security (DHS-S&T-I SAFETY 007).

OMB No.: 1640-0006.

Frequency: On occasion.

Affected Public: Business or other for profit, not-for-profit institutions and individuals or households.

Estimated Number of Respondents: 250.

Estimated Time Per Respondent: 15-30 minutes.

Total Burden Hours: 250.

Total Burden Cost: (capital/startup): None.

Total Burden Cost: (operating/maintaining): None.

Description: The SAFETY Act provides incentives for the development and deployment of Anti-Terrorism Technologies (ATTs) by creating a system of “risk management” and a system of “litigation management.” The purpose of the Act is to ensure that the threat of liability does not deter potential manufacturers or Sellers of ATTs from developing and commercializing technologies that could significantly reduce the risks or mitigate the effects of large-scale terrorist events. Without these protections, important technologies are not being deployed to counter harm resulting from a terrorist attack.

Dated: February 6, 2004.
Steve Cooper,
Chief Information Officer.

[FR Doc. 04-3664 Filed 2-19-04; 8:45 am]

BILLING CODE 4410-10-P